DEPARTMENT OF LABOR

Employment and Training Administration

[TA-W-40,824]

Fort Dearborn Company, Coldwater, MI; Notice of Revised Determination on Reconsideration

By letter dated July 11, 2002, an employee on behalf of petitioners requested administrative reconsideration regarding the Department's Negative Determination Regarding Eligibility to Apply for Worker Adjustment Assistance, applicable to the workers of the subject firm.

The initial investigation resulted in a negative determination issued on June 11, 2002, based on the finding that imports of paper labels used in the food and beverage industry did not contribute importantly to worker separations at the Coldwater plant. The denial notice was published in the Federal Register on June 24, 2002 (67 FR 42583).

During the period that the Department was reviewing allegations made in the request for reconsideration, a petition on behalf of the same subject firm workers for NAFTA-Transitional Adjustment Assistance was certified on the basis of increased customer imports (NAFTA-6425) for the same worker group and the same time period as that which was established in the trade adjustment assistance petition. Therefore, workers of Fort Dearborn Company, Coldwater, Michigan meet criterion (3) of section 223 of the Trade Act of 1974.

Conclusion

After careful review of the additional facts obtained on reconsideration, I conclude that increased imports of articles like or directly competitive with those produced at Fort Dearborn Company, Coldwater, Michigan, contributed importantly to the declines in sales or production and to the total or partial separation of workers at the subject firm. In accordance with the provisions of the Act, I make the following certification:

“All workers of Fort Dearborn Company, Coldwater, Michigan, who became totally or partially separated from employment on or after January 8, 2001, through two years from the date of this certification, are eligible to apply for adjustment assistance under section 223 of the Trade Act of 1974.”

Signed in Washington, DC, this 19th day of February, 2003.
Edward A. Tomchick,
Director, Division of Trade Adjustment Assistance.

[FR Doc. 03-6403 Filed 3-17-03; 8:45 am]

BILLING CODE 4510-30-P